DEPARTMENT OF HEALTH AND HUMAN SERVICES

National Committee on Vital and Health Statistics: Meeting Pursuant to the Federal Advisory Committee Act, the Department of Health and Human Services (HHS) Announces the Following Advisory Committee Meeting

Name: National Committee on Vital and Health Statistics (NCVHS), Full Committee Meeting.

Dates and Times: Wednesday, February 6, 2019: 9:00 a.m.-5:30 p.m.; Thursday, February 7, 2019: 8:30 a.m.-3:00 p.m.

Place: U.S. Department of Health and Human Services, Hubert H. Humphrey Building, 200 Independence Avenue SW, Rm. 505A, Washington, DC 20201.

Status: Open.

Purpose: At the February 6-7, 2019 meeting, the Committee will deliberate draft recommendations for the HHS Secretary, move forward on activities outlined in the NCVHS 2019 workplan, and hold discussions on several health data policy topics. Anticipated action items during this meeting include: (1) A letter to the Secretary regarding recommendations for revisions to principles for adoption of health terminology and vocabulary standards and new principles for curation and update of already adopted standards in follow up to the July 2018 meeting on Health Terminologies and Vocabularies; and (2) draft of the NCVHS Thirteenth Report to Congress focused on actions that Congress might take in coordination with the executive branch and the industry to improve administrative simplification and reductions in burden for stakeholders involved in producing and using health data. In addition, the Committee will review proceedings from the December 2018 hearing on the Predictability Roadmap to identify recommendations for approaches to improve predictability and timeliness of the adoption and implementation processes related to updating standards and operating rules adopted under the authority of the Health Insurance Portability and Accountability Act (HIPAA).

The Privacy, Confidentiality and Security Subcommittee will provide an update on plans for a hearing in March 2019 focused on health information privacy and security beyond HIPAA. The Subcommittee on Population Health will discuss several topics including: Follow up with the Institute for Healthcare Improvement/100 Million Healthier Lives on the public-private partnership to achieve implementation of the NCVHS Measurement Framework for Community Health and Well-being; the federal role in supporting state, local and community measurement as it relates to Healthy People 2030; and the essential role of vital registration data and statistics in measuring, monitoring and understanding health at the community level.

The Committee will further refine its 2019 workplan and discuss activities of mutual significance with the Office of the National Coordinator for Health Information and Technology (ONC).

The times and topics are subject to change. Please refer to the posted agenda for any updates.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the broadcast of the meeting will also be posted.

Should you require reasonable accommodation, please contact the CDC Office of Equal Employment Opportunity on (770) 488-3210 as soon as possible.

Dated: December 18, 2018.
Sharon Arnold,
Associate Deputy Assistant Secretary for Planning and Evaluation, Science and Data Policy, Office of the Assistant Secretary for Planning and Evaluation.

[FR Doc. 2018-28106 Filed 12-26-18; 8:45 am]

BILLING CODE 4151-05-P